DEPARTMENT OF DEFENSE

Department of the Army; Corps of Engineers

Draft Comprehensive Plan and Integrated Programmatic Environmental Impact Statement for the Mississippi Coastal Improvement Program, Jackson, Harrison, and Hancock Counties, MS

AGENCY: Department of the Army, U.S. Army Corps of Engineers, DoD.

ACTION: Notice of availability.

SUMMARY: This notice of availability announces the public release of the Draft Comprehensive Plan and Integrated Programmatic Environmental Impact Statement (EIS) for the Mississippi Coastal Improvements Program (MsCIP), Jackson, Harrison, and Hancock Counties, MS. The Mobile District, U.S. Army Corps of Engineers (Corps) published in the Federal Register, August 9, 2006, (71 FR 45537) a Notice of Intent to Prepare a Draft EIS to address the potential impacts associated with actions to comprehensively address hurricane and storm damage reduction, prevention of saltwater intrusion, preservation of fish and wildlife, prevention of erosion, and other related water resource purposes in coastal Mississippi. These actions are related to the consequences of hurricanes in the Gulf of Mexico in 2005. The Corps will forward recommendations to Congress as authorized by the Department of Defense Appropriations Act, 2006 (Pub. L. 109-148) dated December 30, 2005. The tentatively selected comprehensive plan elements for construction include ecosystem restoration of the barrier islands, mainland beaches, and sites at Admiral Island, Turkey Creek, Dantzler, Bayou Cumbest, Franklin Creek, Deer Island, and submerged aquatic vegetation in Bayou Cumbest which will restore approximately 3,210 acres of emergent tidal marsh, wet pine savannah, scrub/shrub, submerged aquatic vegetation, and beach and dune habitats. In conjuction with the ecosystem restoration efforts, the Draft Comprehensive Plan/Integrated Programmatic EIS recommends tentatively selected flood damage reduction elements, including Forrest Heights Levee, High Hazard Area Risk Reduction Plan Phase I, Waveland Flood Proofing Pilot Projects, and Moss Point Municipal Facility relocation. The EIS will be used as a basis for ensuring compliance with the National Environmental Policy Act (NEPA).

DATES: The public comment period for the Draft Comprehensive Plan and Integrated Programmatic EIS will extend through March 30, 2009.

ADDRESSES: To receive an electronic copy of the Draft Comprehensive Plan and Integrated Programmatic EIS, or to submit comments, contact U.S. Army Corps of Engineers, Mobile District, MsCIP Team, P.O. Box 2288, Mobile, AL 36628-0001. A copy of the full document may also be viewed at the Pascagoula, Ocean Springs, Biloxi, Gulfport, and Bay Saint Louis libraries in coastal Mississippi.

FOR FURTHER INFORMATION CONTACT: Questions about the proposed action and the Draft Comprehensive Plan and Integrated Programmatic EIS should be addressed to Dr. Susan I. Rees, Program Manager, MsCIP, phone (251) 694-4141, Mobile District, U.S. Army Corps of Engineers, P.O. Box 2288, Mobile, AL 36628 or e-mail address: susan.i.rees@usace.army.mil.

SUPPLEMENTARY INFORMATION: Public comments can be submitted through a variety of methods. Written comments may be submitted to the Corps by mail, facsimile, or electronic methods. Additional comments (written or oral) may be presented at the public hearing to be held in early March 2009 in each of the three coastal counties. Additional information on the public hearings will be mailed in a public notice to the agencies and public and announced in news releases.

Dated: January 22, 2009.
Curtis M. Flakes,
Chief, Planning and Environmental Division.

[FR Doc. E9-2810 Filed 2-9-09; 8:45 am]

BILLING CODE 3720-58-P